DEPARTMENT OF COMMERCE

International Trade Administration

[A-570-934]

1-Hydroxyethylidene-1, 1-Diphosphonic Acid From the People's Republic of China: Extension of the Time Limit for the Preliminary Results of the Antidumping Duty Administrative Review

AGENCY: Import Administration, International Trade Administration, Department of Commerce.

DATES: Effective Date: December 1, 2010.

FOR FURTHER INFORMATION CONTACT: Shawn Higgins, AD/CVD Operations, Office 4, Import Administration, International Trade Administration, U.S. Department of Commerce, 14th Street and Constitution Avenue, NW., Washington, DC 20230, telephone: (202) 482-0679.

SUPPLEMENTARY INFORMATION:

Background

On May 28, 2010, the Department of Commerce (the “Department”) published a notice of initiation of an administrative review of the antidumping duty order on 1-hydroxyethylidene-1, 1-diphosphonic acid from the People's Republic of China.¹ The period of review is April 23, 2009, through March 31, 2010. The preliminary results of the administrative review are currently due no later than December 31, 2010.

¹ See Initiation of Antidumping and Countervailing Duty Administrative Reviews, 75 FR 29976 (May 28, 2010).

Extension of Time Limit for Preliminary Results

Pursuant to section 751(a)(3)(A) of the Tariff Act of 1930, as amended (the “Act”), the Department shall make a preliminary determination in an administrative review of an antidumping duty order within 245 days after the last day of the anniversary month of the date of publication of the order. However, if it is not practicable to complete the review within this time period, section 751(a)(3)(A) of the Act allows the Department to extend the time period to a maximum of 365 days.

Completion of the preliminary results of this review within the 245-day period is not practicable because the Department needs additional time to analyze information pertaining to the respondents' sales practices and factors of production, and to issue and review responses to supplemental questionnaires. Therefore, in accordance with section 751(a)(3)(A) of the Act, the Department is extending the time period for completing the preliminary results of the instant administrative review by 90 days until March 31, 2011. The final results continue to be due 120 days after the publication of the preliminary results.

This notice is published pursuant to sections 751(a) and 777(i) of the Act.

Dated: November 24, 2010.
Susan H. Kuhbach,
Acting Deputy Assistant Secretary for Antidumping and Countervailing Duty Operations.

[FR Doc. 2010-30234 Filed 11-30-10; 8:45 am]

BILLING CODE 3510-DS-P